DEPARTMENT OF THE INTERIOR

Bureau of Reclamation

Lake Cascade Resource Management Plan; Draft Environmental Assessment

AGENCY: Bureau of Reclamation, Interior.

ACTION: Notice of public hearings.

SUMMARY: Pursuant to section 102(2)(C) of the National Environmental Policy Act of 1969, as amended, the Department of the Interior, Bureau of Reclamation (Reclamation) has prepared a draft environmental assessment (Draft EA) to evaluate alternatives to update the Lake Cascade Resource Management Plan (RMP). The updated RMP will serve as a blueprint for the future use, management, and site development of Reclamation lands and resources at the reservoir for the next 10 years.

DATES: Public hearings are scheduled from 7:30 to 9:30 p.m. on January 31, 2001 in Boise, ID and on February 1, 2001 in Cascade, ID. The formal public hearings will be preceded by open houses from 6 to 7 p.m., and a presentation describing the project from 7 to 7:30 p.m. Written comments on the Draft EA will be accepted through February 22, 2001.

ADDRESSES: The public hearings will be held at the following locations:

Bureau of Land Management, 1387 S. Vinnell Way, Boise, ID

American Legion Hall, 105 E. Mill Street, Cascade, ID

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

FOR FURTHER INFORMATION CONTACT: Those wishing to obtain a copy of the Draft EA or schedule time in advance to make oral comments at the hearing(s) may contact Ms. Carolyn Burpee-Stone at (208) 378-5395. Persons requiring any special services at the public hearing should contact Ms. Connie Wensman at (208) 378-5317 or TDD #1-800-377-3529, by January 22, 2001.

SUPPLEMENTARY INFORMATION: Speakers will be called in order of their requests. Requests to comment may also be made at each hearing and speakers will be scheduled to follow the advance requests. Comments will be limited to 3 minutes and will be recorded by a court stenographer to be included in the hearing record.

A planning process that included Federal, State, and local governments, Tribes and the public in developing alternatives to update the 1991 Lake Cascade RMP has occurred over the past two years. The Draft EA evaluates three action alternatives that combine various levels of recreation development and resource conservation. The Preferred Alternative emphasizes balanced recreation development and natural resource management. In addition to the action alternatives, the No Action Alternative of continuation of existing management practices was also evaluated. The Draft EA is available for viewing on the internet at http://www.pn.usbr.gov/project/rmp/cascade_pub/news.htm .

Dated: January 5, 2001.
J. William McDonald,
Regional Director, Pacific Northwest Region.

[FR Doc. 01-1229 Filed 1-12-01; 8:45 am]

BILLING CODE 4310-MN-P